DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA or Agency).

Title: Application for Investment Assistance.

OMB Control Number: 0610-0094.

Form Number(s): ED-900, ED-900A, ED-900B, ED-900C, ED-900D, ED-900E, ED-900F, ED-900P.

Type of Request: Regular submission; revision of a currently approved collection.

Number of Respondents: 1672.

Average Hours per Response: 13 hours, 28 minutes.

Burden Hours: 22,552.2.

Application type | Estimated number of responses | Average time estimate | Total hours
Proposal Submission for Non-Construction Applicants | 448 | 4.8 | 2,150.4
Proposal Submission for Construction Applicants | 263 | 4.2 | 1,104.6
Full Application Submission for Construction Applicants | 99 | 43.0 | 4,257
Full Application Submission All Other EDA Programs | 737 | 17.1 | 12,602.7
Full Application Submission for Non-Profit Applicants | 125 | 19.5 | 2,437.5
TOTAL | 1672 |  | 22,552.2

Needs and Uses: In order for EDA to evaluate whether proposed projects satisfy eligibility and programmatic requirements contained in EDA's authorizing legislation, the Public Works and Economic Development Act of 1965, as amended (42 U.S.C. 3121 et seq.) (PWEDA), Section 27 of the Stevenson-Wydler Act, EDA's accompanying regulations codified in 13 CFR Chapter III, and the applicable Notice of Funding Opportunity (NOFO), EDA must collect specific data from its grant applicants. EDA is requesting to revise and extend the currently approved suite of ED-900 application forms.

Affected Public: Not-for-profit institutions; Federal government; State, local, or Tribal government; Business or other for-profit organizations.

Frequency: During application for an EDA award.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Sheleen Dumas,
Departmental Lead PRA Officer, Office of the Chief Information Officer.

[FR Doc. 2018-18633 Filed 8-28-18; 8:45 am]

BILLING CODE 3510-34-P